SMALL BUSINESS ADMINISTRATION

[Disaster Declaration #20155 and #20156; Wrangell Cooperative Association Disaster Number AK-20001]

Presidential Declaration of a Major Disaster for the Wrangell Cooperative Association

AGENCY: Small Business Administration.

ACTION: Notice.

SUMMARY: This is a Notice of the Presidential declaration of a major disaster for the Wrangell Cooperative Association (FEMA-4763-DR), dated 03/15/2024.

Incident: Severe Storm, Landslides, and Mudslides.

Incident Period: 11/20/2023.

DATES: Issued on 04/08/2024.

Physical Loan Application Deadline Date: 05/14/2024.

Economic Injury (EIDL) Loan Application Deadline Date: 12/16/2024.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration for the Wrangell Cooperative Association, members of the tribal community, including all residents of the City and Borough of Wrangell, may submit applications for disaster loans online using the MySBA Loan Portal https://lending.sba.gov or other locally announced locations. Please contact the SBA disaster assistance customer service center by email at disastercustomerservice@sba.gov or by phone at 1-800-659-2955 for further assistance.

The following areas have been determined to be adversely affected by the disaster:

Primary Areas (Physical Damage and Economic Injury Loans): Wrangell Cooperative Association, City and Borough of Wrangell.

Contiguous Areas (Economic Injury Loans Only):

Alaska: Ketchikan Gateway Borough, Petersburg Borough, and the Southeast Island REAA.

The Interest Rates are:

| Percent
For Physical Damage:
Homeowners with Credit Available Elsewhere | 5.375
Homeowners without Credit Available Elsewhere | 2.688
Businesses with Credit Available Elsewhere | 8.000
Businesses without Credit Available Elsewhere | 4.000
Non-Profit Organizations with Credit Available Elsewhere | 3.250
Non-Profit Organizations without Credit Available Elsewhere | 3.250
For Economic Injury:
Business and Small Agricultural Cooperatives without Credit Available Elsewhere | 4.000
Non-Profit Organizations without Credit Available Elsewhere | 3.250

The number assigned to this disaster for physical damage is 201559 and for economic injury is 201560.

(Catalog of Federal Domestic Assistance Number 59008)

Francisco Sánchez, Jr.,
Associate Administrator, Office of Disaster Recovery & Resilience.

[FR Doc. 2024-07767 Filed 4-11-24; 8:45 am]

BILLING CODE 8026-09-P